DEPARTMENT OF ENERGY

Federal Energy Regulatory Commission

[Project No. 2628-066]

Alabama Power Company; Notice of Technical Teleconference

On January 20, 2022, Federal Energy Regulatory Commission (Commission) staff will host a technical teleconference to discuss details of the models used to evaluate alternative operating curves and downstream releases for relicensing Alabama Power Company's (Alabama Power) R.L. Harris Hydroelectric Project No. 2628 (Harris Project).

a. Date and Time of Teleconference: Thursday, January 20, 2022, from 2:00 p.m. to 4:30 p.m. Eastern Time.

b. FERC Contact: Sarah Salazar at 202-502-6863, or sarah.salazar@ferc.gov.

c. Purpose of Teleconference: On November 23, 2021, Alabama Power filed an application to relicense the Harris Project. The application includes analysis and proposals based on results of studies that involved the use of models, including the Hydrologic Engineering Center's River Analysis System (HEC-RAS) and Hydrologic Engineering Center's Reservoir System Simulation (HEC-ResSim). On December 23, 2021, Commission staff issued additional information requests (AIRs) regarding the models. Alabama Power representatives requested a teleconference so their modeling experts can address the AIRs.

d. All local, state, and federal agencies, Indian tribes, and other interested parties are invited to attend and observe the technical teleconference. Attendees will be in listen-only mode, and will have an opportunity to ask questions pertaining to the models at the end of the teleconference. Please contact Allan Creamer at (202) 502-8365, or allan.creamer@ferc.gov by January 17, 2022, to RSVP for the teleconference. Details will be provided by Commission staff once attendance is confirmed. Commission staff will prepare a summary of the teleconference and issue it to the Commission's e-library under the Harris Project docket (P-2628).

Dated: January 5, 2022.
Kimberly D. Bose,
Secretary.

[FR Doc. 2022-00356 Filed 1-11-22; 8:45 am]

BILLING CODE 6717-01-P